DEPARTMENT OF HOUSING AND URBAN DEVELOPMENT

[Docket No. FR-4562-N-03]

Notice of Proposed Information Collection for Public Comment: Study of Rent Burden of Residents Living in HOME-Assisted Rental Units

AGENCY: Office of the Assistant Secretary for Policy Development and Research, HUD.

ACTION: Notice.

SUMMARY: The proposed information collection requirement described below will be submitted to the Office of Management and Budget (OMB) for review, as required by the Paperwork Reduction Act. The Department is soliciting public comments on the subject proposal.

DATES: Comment Due Date: June 26, 2000.

ADDRESSES: Interested persons are invited to submit comments regarding this proposal. Comments should refer to the proposal by name and should be sent to: Reports Liaison Officer, Office of Policy Development and Research, Department of Housing and Urban Development, 451 7th Street, SW, Room 8226, Washington, DC 20410.

FOR FURTHER INFORMATION CONTACT: Vincent M. Mani, Office of Policy Development and Research, Department of Housing and Urban Development, 451 7th Street, SW, Washington, DC 20410; telephone (202) 708-3700, ext. 5714 (this is not a toll free number). Copies of the proposed forms and other available documents to be submitted to OMB may be obtained from Mr. Mani.

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Study of Rent Burden of Residents Living in HOME-Assisted Rental Units.

Description of the need for the information and proposed use: The Department is conducting, under a contract with Abt Associates, Inc., a study of the rent burden of residents living in rental housing developed under the HOME Program. The main objective is to examine the rent burdens of residents living in HOME-assisted units. Rent burden is the percentage of gross income paid toward rent and utilities. Because the rents in HOME-assisted units are unrelated to individual household income but are based instead of affordable rents for households earning 50 percent or 65 percent of area median income adjusted for family size, residents can have high rent burdens, even if their unit is in compliance with rent standards. The study of rent burden will yield important information about the affordability of rental housing developed under the Home Program.

Agency Form Numbers, if Applicable: None.

Members of the affected public: Residents sampled in 250 properties that are selected for the study.

Estimation of the total numbers of hours needed to prepare the information collection including number of respondents, frequency of response, and hours of response: The researchers will administer a one-time telephone survey to 1,000 residents. The interviews are expected to last five minutes, for a total burden hour estimate of 83.3 hours.

Status of the proposed information collection: Awaiting OMB approval.

Authority: Section 3506 of the Paperwork Reduction Act of 1995, 44 U.S.C. Chapter 35, as amended.

Dated: April 18, 2000.
Lawrence L. Thompson,
General Deputy Assistant Secretary for Policy Development and Research.

[FR Doc. 00-10450 Filed 4-26-00; 8:45 am]

BILLING CODE 4120-62-M